DEPARTMENT OF HOMELAND SECURITY

Federal Emergency Management Agency

[Docket ID FEMA-2016-0002; Internal Agency Docket No. FEMA-B-1654]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: November 16, 2016.
Roy E. Wright,
Deputy Associate Administrator for Insurance and Mitigation, Department of Homeland Security, Federal Emergency Management Agency.

State and county | Location and case No. | Chief executive officer of community | Community map repository | Online location of letter of map revision | Effective date of modification | Community No.
Alaska: Kenai Peninsula Borough | City of Homer (16-10-0797P) | The Honorable Mary E. Wythe, Mayor, City of Homer, 491 East Pioneer Avenue, Homer, AK 99603 | City of Homer Planning and Zoning Office, 491 East Pioneer Avenue, Homer, AK 99603 | http://www.msc.fema.gov/lomc | Nov. 28, 2016 | 020107
Colorado:
Eagle | Unincorporated Areas of Eagle County (16-08-0199P) | The Honorable Brent McFall, County Manager, Eagle County, 550 Broadway Street, Eagle, CO 81631 | Eagle County Building, Engineering Department, 500 Broadway Street, Eagle, CO 81631 | http://www.msc.fema.gov/lomc | Nov. 25, 2016 | 080051
Pitkin | Town of Basalt (16-08-0199P) | The Honorable Jacque Whitsitt, Mayor, Town of Basalt, Basalt Town Hall, 101 Midland Avenue, Basalt, CO 81621 | Town Hall, 101 Midland Avenue, Basalt, CO 81621 | http://www.msc.fema.gov/lomc | Nov. 25, 2016 | 080052
Pitkin | Unincorporated Areas of Pitkin County (16-08-0199P) | The Honorable Jon Peacock, County Manager, Pitkin County, 530 East Main Street, 3rd Floor, Aspen, CO 81611 | Pitkin County, GIS Department, City Hall, 130 South Galena Street, Aspen, CO 81611 | http://www.msc.fema.gov/lomc | Nov. 25, 2016 | 080287
Idaho:
Kootenai | Unincorporated Areas of Kootenai County (16-10-0771P) | The Honorable Dan Green, Chairman, Board of County Commissioners, Main County Administration Building, 451 Government Way, Coeur d'Alene, ID 83814 | Assessors Department, Kootenai County Court House, 451 Government Way, Coeur d'Alene, ID 83814 | http://www.msc.fema.gov/lomc | Dec. 9, 2016 | 160076
Illinois:
Cook | City of Des Plaines (16-05-0956P) | The Honorable Matthew J. Bogusz, Mayor, City of Des Plaines, 1420 Miner Street, Des Plaines, IL 60016. | Civic Center, 1420 Miner Street, 5th Floor, Des Plaines, IL 60016 | http://www.msc.fema.gov/lomc | Nov. 25, 2016 | 170081
Cook | Village of Rosemont (16-05-0956P) | The Honorable Bradley A. Stephens, Village President, Village of Rosemont, 9501 West Devon Avenue, Rosemont, IL 60018 | Department of Public Works, 7048 North Barry Street, Rosemont, IL 60018 | http://www.msc.fema.gov/lomc | Nov. 25, 2016 | 170156
Cook and DuPage | City of Chicago (16-05-0956P) | The Honorable Rahm Emanuel, Mayor, City of Chicago, City Hall, 121 North LaSalle Street, Room 406, Chicago, IL 60602 | Department of Buildings, Stormwater Management, 121 North LaSalle Street, Room 906, Chicago, IL 60602 | http://www.msc.fema.gov/lomc | Nov. 25, 2016 | 170074
DuPage | Village of Bensenville (16-05-0956P) | The Honorable Frank Soto, Village President, Village of Bensenville, 12 South Center Street, Bensenville, IL 60106 | Village Hall, 12 South Center Street, Bensenville, IL 60106 | http://www.msc.fema.gov/lomc | Nov. 25, 2016 | 170200
DuPage | Village of Elk Grove Village (16-05-0956P) | The Honorable Craig B. Johnson, Mayor, Village of Elk Grove Village, 901 Wellington Avenue, Elk Grove Village, IL, 60007 | Engineering and Community Development Department, 901 Wellington Avenue, Elk Grove Village, IL 60007 | http://www.msc.fema.gov/lomc | Nov. 25, 2016 | 170088
Lake | City of North Chicago (16-05-3391P) | The Honorable Leon Rockingham, Jr., Mayor, City of North Chicago, 1850 Lewis Avenue, North Chicago, IL 60064 | City Hall, 1850 Lewis Avenue, North Chicago, IL 60064 | http://www.msc.fema.gov/lomc | Dec. 16, 2016 | 170384
Lake | Unincorporated Areas of Lake County (16-05-2755P) | The Honorable Aaron Lawlor, Chairman, Lake County, Board, 18 North County Street, 10th Floor, Waukegan, IL 60085 | Central Permit Facility, 500 West Winchester Road, Unit 101, Libertyville, IL 60048 | http://www.msc.fema.gov/lomc | Dec. 23, 2016 | 170357
Lake | Village of Lincolnshire (16-05-2755P) | The Honorable Elizabeth, Brandt, Mayor, Village of Lincolnshire, 1 Olde Half Day Road, Lincolnshire, IL 60069 | Village Hall, 1 Olde Half Day Road, Lincolnshire, IL 60069 | http://www.msc.fema.gov/lomc | Dec. 23, 2016 | 170378
Lake | Village of Riverwoods (16-05-2755P) | The Honorable John Norris, Mayor, Village of Riverwoods, 300 Portwine Road, Riverwoods, IL 60015 | Village Hall, 300 Portwine Road, Riverwoods, IL 60015 | http://www.msc.fema.gov/lomc | Dec. 23, 2016 | 170387
Will | City of Naperville (16-05-2014P) | The Honorable Steve Chirico, Mayor, City of Naperville, 400 South Eagle Street, Naperville, IL 60540 | City Hall, 400 South Eagle Street, Naperville, IL 60540 | http://www.msc.fema.gov/lomc | Dec. 8, 2016 | 170213
Will | Unincorporated Areas of Will County (15-05-1059P) | The Honorable Lawrence M. Walsh, County Executive, Will County, Will County Office Building, 302 North Chicago Street, Joliet, IL 60432 | Land Use Department, 58 East Clinton Street, Suite 100, Joliet, IL 60432 | http://www.msc.fema.gov/lomc | Nov. 18, 2016 | 170695
Will | Unincorporated Areas of Will County (16-05-2014P) | The Honorable Lawrence M. Walsh, County Executive, Will County, Will County Office Building, 302 North Chicago Street, Joliet, IL 60432 | Land Use Department, 58 East Clinton Street, Suite 100, Joliet, IL 60432 | http://www.msc.fema.gov/lomc | Dec. 8, 2016 | 170695
Will | Village of Mokena (15-05-1059P) | The Honorable Frank A. Fleischer, Village President, Village of Mokena, 11004 Carpenter Street, Mokena, IL 60448 | Village Hall, 11004 Carpenter Street, Mokena, IL 60448 | http://www.msc.fema.gov/lomc | Nov. 18, 2016 | 170705
Kansas:
Johnson | City of Mission Hills (16-07-0831P) | The Honorable Richard Boeshaar, Mayor, City of Mission Hills, 6300 State Line Road, Mission Hills, KS 66208 | City Hall, 6300 State Line Road, Mission Hills, KS 66208 | http://www.msc.fema.gov/lomc | Dec. 21, 2016 | 200171
Johnson | City of Mission Woods (16-07-0831P) | The Honorable Robert Tietze, Mayor, City of Mission Woods, The Westwood City Hall, 4700 Rainbow Boulevard, Westwood, KS 66205 | City Hall, 4700 Rainbow Boulevard, Westwood, KS 66205 | http://www.msc.fema.gov/lomc | Dec. 21, 2016 | 200172
Kentucky: Fayette | Lexington-Fayette Urban County Government (16-04-4411P) | The Honorable Jim Gray, Mayor, City of Lexington, 200 East Main Street, Lexington, KY 40507 | Lexington-Fayette Urban County Government, 200 East Main Street 12th Floor, Government Center, Lexington, KY 40507 | http://www.msc.fema.gov/lomc | Dec. 14, 2016 | 210067
Minnesota: Anoka | City of Lino Lakes (16-05-3555P) | The Honorable Jeff Reinert, Mayor, City of Lino Lakes, 600 Town Center Parkway, Lino Lakes, MN 55014 | City Hall, 600 Town Center Parkway, Lino Lakes, MN 55014 | http://www.msc.fema.gov/lomc | Dec. 21, 2016 | 270015
Oregon: Jackson | Unincorporated Areas of Jackson County (16-10-0826P) | The Honorable Rick Dyer, Commissioner, Jackson County, 10 South Oakdale Avenue, Room 214, Medford, OR 97501 | Jackson County Roads Parks and Planning Services, 10 South Oakdale Avenue, Medford, OR 97501 | http://www.msc.fema.gov/lomc | Dec. 13, 2016 | 415589
Wisconsin: Dane | City of Middleton (16-05-2081P) | The Honorable Kurt Sonnentag, Mayor, City of Middleton, 7426 Hubbard Avenue, Middleton, WI 53562 | City Hall, 7426 Hubbard Avenue, Middleton, WI 53562 | http://www.msc.fema.gov/lomc | Oct. 28, 2016 | 550087

[FR Doc. 2016-28527 Filed 11-25-16; 8:45 am]

BILLING CODE 9110-12-P